DEPARTMENT OF LABOR

Office of Labor-Management Standards

Agency Information Collection Activities; Information Collection Request; Labor Organization and Auxiliary Reports Comment Period Extension

AGENCY: Office of Labor-Management Standards, Department of Labor.

ACTION: Notice.

SUMMARY: This document extends the period for comments on the proposal, published on May 20, 2015 (80 FR 29096), to amend the information collection request 1245-0003, particularly the Form LM-2, LM-3, and LM-4 Labor Organization Annual Report instructions, to require filers of such reports to submit the reports electronically, and to modify the hardship exemption process for Form LM-2 filers. The comment period, which was to expire on July 20, 2015, is extended to August 19, 2015. A copy of the proposed information collection request can be obtained by contacting the office listed below in the addresses section of this Notice.

DATES: Written comments on the proposal to amend the information collection request 1245-0003, published on May 20, 2015 (80 FR 29096), must be submitted to the office listed in the addresses section below on or before August 19, 2015.

ADDRESSES: Andrew R. Davis, Chief of the Division of Interpretations and Standards, Office of Labor-Management Standards, U.S. Department of Labor, 200 Constitution Avenue NW., Room N-5609, Washington, DC 20210, olms-public@dol.gov, (202) 693-0123 (this is not a toll-free number), (800) 877-8339 (TTY/TDD).

Please use only one method of transmission (mail or submission via www.regulations.gov using RIN: 1245-AA06) to submit comments or to request a copy of this information collection and its supporting documentation; including a description of the likely respondents, proposed frequency of response, and estimated total burden. You may also request a copy of this information collection and its supporting documentation by sending an email to olms-public@dol.gov.

SUPPLEMENTARY INFORMATION: In the Federal Register of May 20, 2015 (80 FR 29096), the Department sought public comments on the proposal to amend Labor Organization and Auxiliary Reports information collections approved under OMB Control Number 1245-0003, specifically the Form LM-3 and LM-4 instructions, to require mandatory electronic filing of these reports, as well as modify the Form LM-2 hardship exemption process to correspond with that proposed for the Form LM-3 and LM-4 reports, which would only permit temporary hardship exemption submissions, not continuing. As stated in the notice, the Department believes that reasonable changes must be made to the means by which the forms required under the Labor-Management Reporting and Disclosure Act (LMRDA) Title II are filed. The most efficient way to provide meaningful access to this information by interested members of the public is to require that the reports filed by small and medium-sized labor organizations be filed in electronic form. This change will benefit the filers, union members, and the public, as well as the Department.

Interested persons were invited to submit comments on or before July 20, 2015, 60 days after the publication of the original notice. A public commenter has requested a 30-day extension of time to submit comments. In response to these requests, the Department has decided to extend the comment period for an additional 30 days. Comments on the proposed information collection must be received on or before August 19, 2015. An extension of this duration is appropriate, because it will afford parties a meaningful opportunity to submit comments on the proposal without unduly delaying final action on the proposed regulation.

Dated: July 15, 2015.
Andrew R. Davis,
Chief, Division of Interpretations and Standards, Office of Labor-Management Standards.

[FR Doc. 2015-17731 Filed 7-17-15; 8:45 am]

BILLING CODE 4510-86-P